DEPARTMENT OF COMMERCE

National Oceanic and Atmospheric Administration

[I.D. 021704B]

Groundfish Fisheries of the Bering Sea and Aleutian Islands (BSAI) Area and the Gulf of Alaska, King and Tanner Crab Fisheries in the BSAI, Scallop and Salmon Fisheries Off the Coast of Alaska

AGENCY: National Marine Fisheries Service (NMFS), National Oceanic and Atmospheric Administration (NOAA), Commerce.

ACTION: Notice of public meetings for the Draft Environmental Impact Statement (DEIS) for Essential Fish Habitat (EFH) Identification and Conservation in Alaska.

SUMMARY: NMFS and the North Pacific Fishery Management Council (Council) have completed a DEIS for EFH in Alaska. The DEIS evaluates alternatives and environmental consequences for the following three actions: describing and identifying EFH for fisheries managed by the Council; adopting an approach for the Council to identify Habitat Areas of Particular Concern (HAPCs) within EFH; and minimizing to the extent practicable the adverse effects of Council-managed fishing on EFH. NMFS and the Council will hold three public meetings during the DEIS' comment period.

DATES: Public meetings will be held in March and April 2004. See SUPPLEMENTARY INFORMATION under the heading “Meeting Dates, Times, and Locations” for specific dates and times of the public meetings.

ADDRESSES: See SUPPLEMENTARY INFORMATION under the heading “Meeting Dates, Times, and Locations” for specific locations of the public meetings.

FOR FURTHER INFORMATION CONTACT: Mary B. Goode, (907) 586-7636.

SUPPLEMENTARY INFORMATION:

Background

The Magnuson-Stevens Fishery Conservation and Management Act (Magnuson-Stevens Act) requires NMFS and the Council to describe and identify EFH in fishery management plans (FMPs), minimize to the extent practicable the adverse effects of fishing on EFH, and identify other actions to encourage the conservation and enhancement of EFH. Federal agencies that authorize, fund, or undertake actions that may adversely affect EFH must consult with NMFS, and NMFS must provide conservation recommendations to Federal and state agencies regarding actions that would adversely affect EFH. The Council also has authority to comment on Federal or state agency actions that would adversely affect the habitat, including EFH, of managed species.

The Council amended its FMPs for the groundfish, crab, scallop, and salmon fisheries in 1998 to address the EFH requirements. The Secretary of Commerce, acting through NMFS, approved the Council's EFH FMP amendments in January 1999 (64 FR 20216; April 26, 1999). In the spring of 1999, a coalition of seven environmental groups and two fishermen's associations filed suit in the United States District Court for the District of Columbia to challenge NMFS' approval of EFH FMP amendments prepared by the Gulf of Mexico, Caribbean, New England, North Pacific, and Pacific Fishery Management Councils. The focus of the litigation was whether NMFS and the Council had adequately evaluated the effects of fishing on EFH and taken appropriate measures to mitigate adverse effects. In September 2000, the court upheld NMFS' approval of the EFH amendments under the Magnuson-Stevens Act, but ruled that the environmental assessment (EA) prepared for the amendments violated the National Environmental Policy Act (NEPA). The court ordered NMFS to complete new and thorough NEPA analyses for each EFH amendment in question. The DEIS for EFH Identification and Conservation in Alaska is the curative NEPA analysis for the North Pacific Council's FMPs. A notice of availability for the DEIS was published in the Federal Register on January 16, 2004 (69 FR 2593) and is available on the internet at www.fakr.noaa.gov/habitat/seis/efheis.htm. NMFS is accepting public comments through April 15, 2004.

Most of the controversy surrounding the necessary level of protection needed for EFH concerns the effects of fishing activities on sea floor habitats. Substantial differences of opinion exist as to the extent and significance of habitat alteration caused by bottom trawling and other fishing activities. The DEIS reexamines the effects of fishing on EFH, presents a wider range of alternatives, and provides a more thorough analysis of potential impacts than the EA approved in 1999. Because the court did not limit its criticism of the 1999 analysis solely to the section that considered the effects of fishing on EFH, the DEIS also reexamines options for identifying EFH and HAPCs.

The actions the Council and NMFS take in association with the DEIS may result in new FMP amendments to modify the existing EFH and/or HAPC designations and/or to implement additional measures to reduce the effects of fishing on EFH.

Meeting Dates, Times, and Locations

NMFS and the Council will hold public meetings as follows:

1. Friday, March 19, 2004, 9 a.m. - 12 p.m. Alaska local time (ALT) - NMFS Alaska Fisheries Science Center, Jim Traynor Conference Room, Building 4, 7600 Sand Point Way NE, Seattle, WA.

2. Wednesday, March 31, 2004, 6 p.m. - 9 p.m. ALT - Anchorage Hilton, Katmai/Dillingham Room, 500 West Third Avenue, Anchorage, AK.

3. Thursday, April 8, 2004, 1 p.m. - 4 p.m. ALT - NMFS Alaska Regional Office, 709 West 9th Street, Room 445, Juneau, AK.

Special Accommodations

These meetings are physically accessible to people with disabilities. Requests for special accommodations should be directed to Mary B. Goode (see FOR FURTHER INFORMATION CONTACT) at least five working days before the meeting date.

Authority: 16 U.S.C. 1801 et seq.

Dated: March 1, 2004.
Bruce C. Morehead,
Acting Director, Office of Sustainable Fisheries, National Marine Fisheries Service.

[FR Doc. 04-5019 Filed 3-4-04; 8:45 am]

BILLING CODE 3510-22-S